DEPARTMENT OF HEALTH AND HUMAN SERVICES

Centers for Disease Control and Prevention

[CDC-2022-0078; Docket Number NIOSH-345-A]

Final American Indian and Alaska Native Worker Safety and Health Strategic Plan

AGENCY: Centers for Disease Control and Prevention (CDC), Department of Health and Human Services (HHS).

ACTION: Notice of availability.

SUMMARY: The National Institute for Occupational Safety and Health (NIOSH) in the Centers for Disease Control and Prevention (CDC), an Operating Division of the Department of Health and Human Services (HHS), announces the availability of the final American Indian and Alaska Native Worker Safety and Health Strategic Plan.

DATES: The final document was published on March 10, 2023 on the CDC website.

ADDRESSES: The document is found in the Supplemental Materials tab of the docket (CDC-2022-0078) and at https://www.cdc.gov/niosh/docs/2023-123/.

FOR FURTHER INFORMATION CONTACT: Elizabeth Dalsey, National Institute for Occupational Safety and Health, Centers for Disease Control and Prevention, Mailstop P-16, W 6th Ave. and Kipling St., Denver, CO 80225. Telephone (303) 236-5955 (not a toll-free number). Email: edalsey@cdc.gov.

SUPPLEMENTARY INFORMATION: On June 28, 2022, NIOSH published a request for public review in the Federal Register [87 FR 38408] on the draft version of the American Indian and Alaska Native Worker Safety and Health Strategic Plan. We received one set of comments from the general public. Although the comments provided feedback on potential partners to collaborate with and suggestions on how to implement the plan, they were outside the scope of the request. However, NIOSH reviewed the comments and will use them to help disseminate and implement the plan.

Dated: March 15, 2023.
John J. Howard,
Director, National Institute for Occupational Safety and Health, Centers for Disease Control and Prevention.

[FR Doc. 2023-05602 Filed 3-17-23; 8:45 am]

BILLING CODE 4163-18-P